NUCLEAR REGULATORY COMMISSION

[Docket No. NRC-2013-0238]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 4, 2013 (78 FR 66078).

1. Type of submission, new, revision, or extension: Extension.

2. The title of the information collection: 10 CFR Part 34, “Licenses for Radiography and Radiation Safety Requirements for Radiographic Operations.”

3. Current OMB approval number: 3150-0007.

4. The form number if applicable: N/A.

5. How often the collection is required: On occasion.

6. Who will be required or asked to report: Applications for new licenses and amendments may be submitted at any time (on occasion). Applications for renewal are submitted every 10 years. Reports are submitted as events occur.

7. An estimate of the number of annual responses: 2,803 (371 reporting responses + 1,824 third-party disclosure responses + 608 recordkeepers).

8. The estimated number of annual respondents: 608 (529 Agreement State licensees plus 79 NRC licensees).

9. An estimate of the total number of hours needed annually to complete the requirement or request: 234,456.5 hours (502 reporting + 210,060.1 recordkeeping + 23894.4 third party disclosure). The NRC licensees' total burden is 30688.8 hours and the Agreement State licensees' total burden is 203,767.8 hours.

10. Abstract: Part 34 of Title 10 of the Code of Federal Regulations (10 CFR), establishes radiation safety requirements for the use of radioactive material in industrial radiography. The information in the applications, reports and records is used by the NRC staff to ensure that the health and safety of the public is protected and that licensee possession and use of source and byproduct material is in compliance with license and regulatory requirements.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by February 20, 2014. Comments received after this date will be considered if it is practical to do so, but assurance of consideration cannot be given to comments received after this date. Chad Whiteman, Desk Officer, Office of Information and Regulatory Affairs (3150-0007), NEOB-10202, Office of Management and Budget, Washington, DC 20503.

Comments can also be emailed to Chad_S_Whiteman@omb.eop.gov or submitted by telephone at 202-395-4718.

The NRC Clearance Officer is Tremaine Donnell, telephone: 301-415-6258.

Dated at Rockville, Maryland, this 14th day of January, 2014.
For the Nuclear Regulatory Commission.
Kristen Benney,
Acting NRC Clearance Officer, Office of Information Services.

[FR Doc. 2014-01028 Filed 1-17-14; 8:45 am]

BILLING CODE 7590-01-P